FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 21, 2017.

A. Federal Reserve Bank of Atlanta (Chapelle Davis, Assistant Vice President) 1000 Peachtree Street NE., Atlanta, Georgia 30309. Comments can also be sent electronically to Applications.Comments@atl.frb.org:

1. Kenneth Ray Lehman, Arlington, Virginia; to acquire voting shares of CCF Holding Company, and thereby indirectly acquire voting shares of Heritage Bank, both of Jonesboro, Georgia.

B. Federal Reserve Bank of Kansas City (Dennis Denney, Assistant Vice President) 1 Memorial Drive, Kansas City, Missouri 64198-0001:

1. Don O. Walsworth, Sr., individually and as trustee of various family trusts, Marceline, Missouri; to acquire voting shares of Citizens Bancshares Co., Kansas City, Missouri, and thereby indirectly acquire Citizens Bank and Trust Company, Kansas City, Missouri.

Board of Governors of the Federal Reserve System, June 2, 2017.
Yao-Chin Chao,
Assistant Secretary of the Board.

[FR Doc. 2017-11808 Filed 6-6-17; 8:45 am]

BILLING CODE 6210-01-P